NUCLEAR REGULATORY COMMISSION

[Docket Nos. 52-025 and 52-026; NRC-2008-0252]

Southern Nuclear Operating Company, Inc.; Vogtle Electric Generating Plant, Units 3 and 4; Fire Protection System Nonsafety Cable Spray Removal

AGENCY: Nuclear Regulatory Commission.

ACTION: Combined license amendment; issuance.

SUMMARY: The U.S. Nuclear Regulatory Commission (NRC) is issuing License Amendment Nos. 145 and 144 to Combined Licenses (COL), NPF-91 and NPF-92, respectively. The COLs were issued to Southern Nuclear Operating Company, and Georgia Power Company, Oglethorpe Power Corporation, MEAG Power SPVM, LLC, MEAG Power SPVJ, LLC, MEAG Power SPVP, LLC, and the City of Dalton, Georgia (collectively SNC); for construction and operation of the Vogtle Electric Generating Plant (VEGP) Units 3 and 4, located in Burke County, Georgia.

The amendment authorizes changes in the form of departures to the VEGP Units 3 and 4 plant specific Design Control Document (PS-DCD) Tier 2 information contained within the Updated Final Safety Analysis Report and plant-specific Tier 1 information, with corresponding changes to Appendix C of the COL removing the fire protection system (FPS) nonsafety-related containment cable spray and installing passive fire stops and radiant energy shields. Specifically, the changes were for the removal of the FPS containment open nozzle water spray suppression system for the open nonsafety-related cable trays in fire zone 1100 AF 11300B and for installing passive fire stops and radiant energy shields.

The exemption allows changes that impact Tier 1 of the PS-DCD and associated COL Appendix C of the Facility COL as specified in LAR 18-015. This exemption is related to, and necessary for, the granting of the amendment which is being issued concurrently.

DATES: The amendments were issued on October 4, 2018.

ADDRESSES: Please refer to Docket ID NRC-2008-0252 when contacting the NRC about the availability of information regarding this document. You may obtain publicly-available information related to this document using any of the following methods:

• Federal Rulemaking website: Go http://www.regulations.gov and search for Docket ID NRC-2008-0252. Address questions about NRC dockets to Jennifer Borges; 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 800-397-4209, 301-415-4737, or by email to pdr.resource@nrc.gov. The ADAMS accession number for each document referenced (if it is available in ADAMS) is provided the first time that it is mentioned in this document. The request for the amendment and exemption was submitted by letter dated April 27, 2018, designated License Amendment Request (LAR) 18-015, and supplemented by letter dated August 13, 2018 (ADAMS Accession Nos. ML18117A464 and ML18225A291, respectively).

• NRC's PDR: You may examine and purchase copies of public documents at the NRC's PDR, Room O1-F21, One White Flint North, 11555 Rockville Pike, Rockville, Maryland 20852.

FOR FURTHER INFORMATION CONTACT: William (Billy) Gleaves, Office of New Reactors, U.S. Nuclear Regulatory Commission, Washington, DC 20555-0001; telephone: 301-415-5848; email: Bill.Gleaves@nrc.gov.

SUPPLEMENTARY INFORMATION:

I. Introduction

The NRC is granting exemptions from paragraph B of section III, “Scope and Contents,” of appendix D, “Design Certification Rule for the AP1000,” to part 52 of title 10 of the Code of Federal Regulations (10 CFR) and issuing License Amendment Nos. 138 and 137 to COLs, NPF-91 and NPF-92, respectively, to SNC. The exemption is required by paragraph A.4 of section VIII, “Processes for Changes and Departures,” appendix D, to 10 CFR part 52 to allow SNC to depart from Tier 1 information. The exemptions met all applicable regulatory criteria set forth in 10 CFR 50.12, 10 CFR 52.7, and section VIII.A.4 of appendix D to 10 CFR part 52. The license amendments met all applicable regulatory criteria and were found to be acceptable as well. The combined safety evaluation is available in ADAMS under Accession No. ML18247A407.

Identical exemption documents (except for referenced unit numbers and license numbers) were issued to SNC for VEGP Units 3 and 4 (COLs NPF-91 and NPF-92). The exemption documents for VEGP Units 3 and 4 can be found in ADAMS under Accession Nos. ML18247A405 and ML18247A406, respectively. The exemption is reproduced (with the exception of abbreviated titles and additional citations) in Section II of this document. The amendment documents for COLs NPF-91 and NPF-92 are available in ADAMS under Accession Nos. ML18247A401 and ML18247A403, respectively. A summary of the amendment documents is provided in Section III of this document.

II. Exemption

Reproduced below is the exemption document issued to VEGP Units 3 and Unit 4. It makes reference to the combined safety evaluation that provides the reasoning for the findings made by the NRC (and listed under Item 1) in order to grant the exemption:

1. In a letter dated April 27, 2018, as supplemented August 13, 2018, SNC requested from the Nuclear Regulatory Commission (NRC or Commission) an exemption to allow departure from Tier 1 information in the certified DCD incorporated by reference in Title 10 of the Code of Federal Regulations (10 CFR) Part 52, Appendix D, “Design Certification Rule for the AP1000 Design,” as part of license amendment request (LAR) 18-015, “Fire Protection System Non-Safety Cable Spray Removal.”

For the reasons set forth in Section 3.2 of the NRC staff's Safety Evaluation, which can be found be found in ADAMS under Accession Number ML18247A407, the Commission finds that:

A. the exemption is authorized by law;

B. the exemption presents no undue risk to public health and safety;

C. the exemption is consistent with the common defense and security;

D. special circumstances are present in that the application of the rule in this circumstance is not necessary to serve the underlying purpose of the rule;

E. the special circumstances outweigh any decrease in safety that may result from the reduction in standardization caused by the exemption; and

F. the exemption will not result in a significant decrease in the level of safety otherwise provided by the design.

2. Accordingly, SNC is granted an exemption from the certified DCD Tier 1 information, with corresponding changes to Appendix C of the Facility Combined License, as described in the licensee's request dated April 27, 2018, as supplemented August 13, 2018. This exemption is related to, and necessary for the granting of License Amendment No. 145 (Unit 3) and 144, which is being issued concurrently with this exemption.

3. As explained in Section 5.0 of the NRC staff's Safety Evaluation (ADAMS Accession Number ML18247A407), this exemption meets the eligibility criteria for categorical exclusion set forth in 10 CFR 51.22(c)(9). Therefore, pursuant to 10 CFR 51.22(b), no environmental impact statement or environmental assessment needs to be prepared in connection with the issuance of the exemption.

4. This exemption is effective as of the date of its issuance.

III. License Amendment Request

By letter dated April 27, 2018, designated License Amendment Request (LAR) 18-015, and supplemented by letter dated August 13, 2018 (ADAMS Accession Nos. ML18117A464 and ML18225A291, respectively), the licensee requested that the NRC amend the COLs for VEGP, Units 3 and 4, COLs NPF-91 and NPF-92. The proposed amendment is described in Section I of this Federal Register notice.

The Commission has determined for these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or COL, as applicable, proposed no significant hazards consideration determination, and opportunity for a hearing in connection with these actions, was published in the Federal Register on June 19, 2018 (83 FR 28463). No comments were received during the 30-day comment period.

The Commission has determined that these amendments satisfy the criteria for categorical exclusion in accordance with 10 CFR 51.22. Therefore, pursuant to 10 CFR 51.22(b), no environmental impact statement or environmental assessment need be prepared for these amendments.

IV. Conclusion

Using the reasons set forth in the combined safety evaluation, the staff granted the exemptions and issued the amendments that SNC requested by letter dated April 27, 2018, supplemented by letter dated August 13, 2018 (ADAMS Accession Nos. ML18117A464 and ML18225A291, respectively). The exemptions and amendments were issued to the licensee on October 4, 2018, as part of a combined package (ADAMS Accession No. ML18247A399).

Dated at Rockville, Maryland, on October 19, 2018.
For the Nuclear Regulatory Commission.
Jennifer L. Dixon-Herrity,
Chief, Licensing Branch 4, Division of Licensing, Siting, and Environmental Analysis, Office of New Reactors.

[FR Doc. 2018-23191 Filed 10-23-18; 8:45 am]

BILLING CODE 7590-01-P